OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between February 1, 2006, and February 28, 2006. Future notices will be published on the fourth Tuesday of each month, or as soon as possible thereafter. A consolidated listing of all authorities as of June 30 is published each year.

Schedule A

No Schedule A appointments were approved for February 2006.

Schedule B

No Schedule B appointments were approved for February 2006.

Schedule C

The following Schedule C appointments were approved during February 2006:

Section 213.3303 Executive Office of the President

Office of Management and Budget

BOGS60141 Deputy to the Associate Director for Legislative Affairs (Senate). Effective February 28, 2006.

Office of National Drug Control Policy

QQGS00028 White House Liaison and Intergovernmental Affairs Specialist to the Chief of Staff. Effective February 2, 2006.

Office of the United States Trade Representative

TNGS60011 Confidential Assistant to the Chief of Staff. Effective February 22, 2006.

Office of Science and Technology Policy

TSGS60038 Confidential Assistant to the Associate Director, Science. Effective February 3, 2006.

Section 213.3304 Department of State

DSGS61032 Staff Assistant to the Director, Policy Planning Staff. Effective February 3, 2006.

DSGS61034 Staff Assistant to the Assistant Secretary Bureau of International Narcotics and Law Enforcement Affairs. Effective February 3, 2006.

DSGS61035 Staff Assistant to the Assistant Secretary, Bureau of International Narcotics and Law Enforcement Affairs. Effective February 3, 2006.

DSGS61036 Staff Assistant to the Assistant Secretary for Public Affairs. Effective February 3, 2006.

DSGS61038 Special Assistant to the Chief of Protocol. Effective February 3, 2006.

DSGS61040 Staff Assistant to the Deputy Assistant Secretary, Bureau for Education and Cultural Affairs. Effective February 3, 2006.

DSGS61042 Foreign Affairs Officer to the Assistant Secretary for International Organizational Affairs. Effective February 3, 2006.

DSGS61022 Special Assistant to the Deputy Assistant Secretary, Bureau of Overseas Building Operations. Effective February 7, 2006.

DSGS61043 Coordinator for Intergovernmental Affairs to the Deputy Assistant Secretary, Bureau of Public Affairs. Effective February 7, 2006.

DSGS61045 Special Assistant to the Assistant Secretary for Democracy Human Rights and Labor. Effective February 10, 2006.

DSGS61046 Special Assistant to the Counselor. Effective February 10, 2006.

DSGS61047 Legislative Management Officer to the Assistant Secretary for Legislative and Intergovernmental Affairs. Effective February 10, 2006.

DSGS61048 Staff Assistant to the Counselor. Effective February 24, 2006.

Section 213.3305 Department of the Treasury

DYGS00442 Special Assistant to the Deputy Assistant Secretary (Public Liaison, Strategic Planning and Business Development). Effective February 17, 2006.

Section 213.3306 Department of Defense

DDGS16920 Staff Assistant to the Deputy Assistant Secretary of Defense (Negotiations Policy). Effective February 7, 2006.

DDGS16922 Defense Fellow to the Special Assistant to the Secretary of Defense for White House Liaison. Effective February 7, 2006.

DDGS16914 Personal and Confidential Assistant to the Deputy Secretary of Defense. Effective February 10, 2006.

DDGS16918 Staff Assistant to the Deputy Assistant Secretary of Defense (Negotiations Policy). Effective February 10, 2006.

DDGS16921 Staff Assistant to the Principal Deputy Assistant Secretary of Defense (International Security Affairs). Effective February 17, 2006.

Section 213.3310 Department of Justice

DJGS00202 Counsel to the Assistant Attorney General, Criminal Division. Effective February 2, 2006.

DJGS00262 Special Counsel for Voting Matters to the Assistant Attorney General. Effective February 10, 2006.

DJGS00278 Deputy Director to the Director, Office of Intergovernmental and Public Liaison. Effective February 10, 2006.

DJGS00185 Senior Counsel to the Deputy Attorney General. Effective February 14, 2006.

DJGS00061 Senior Advisor to the Assistant Attorney General. Effective February 15, 2006.

Section 213.3311 Department of Homeland Security

DMGS00478 Special Assistant to the Under Secretary for Science and Technology. Effective February 9, 2006.

DMGS00474 Director of Communications for Intelligence and Operations to the Deputy Assistant Secretary for Public Affairs. Effective February 10, 2006.

DMGS00479 Chief Technology and Process Manager to the Executive Secretary. Effective February 10, 2006.

DMGS00485 Policy Analyst to the Privacy Officer. Effective February 13, 2006.

DMGS00481 Director of Strategic Communications for Policy to the Director of Strategic Communications. Effective February 14, 2006.

DMGS00482 Director of Legislative Affairs for Intelligence and Operations to the Assistant Secretary for Legislative Affairs. Effective February 17, 2006.

DMGS00483 Press Secretary to the Director of Communications. Effective February 17, 2006.

DMGS00475 Coordinator for Local Affairs to the Director for Public Safety Coordination. Effective February 22, 2006.

DMGS00469 Special Assistant to the Under Secretary for Management. Effective February 24, 2006.

DMGS00487 Advisor to the Under Secretary for Preparedness. Effective February 24, 2006.

Section 213.3312 Department of the Interior

DIGS01058 Director, Take Pride In America to the Deputy Secretary of the Interior. Effective February 10, 2006.

DIGS79101 Special Assistant to the Director, National Park Service. Effective February 10, 2006.

Section 213.3313 Department of Agriculture

DAGS00842 Special Assistant to the Deputy Assistant Secretary for Administration. Effective February 3, 2006.

DAGS00839 Chief of Staff to the Administrator, Rural Housing Service. Effective February 6, 2006.

DAGS00844 Special Assistant to the Deputy Under Secretary, Research, Education and Economics. Effective February 10, 2006.

DAGS00843 Staff Assistant to the Chief Financial Officer. Effective February 16, 2006.

Section 213.3314 Department of Commerce

DCGS00669 Confidential Assistant to the Assistant Secretary for Market Access and Compliance. Effective February 3, 2006.

DCGS60686 Director of Advance to the Chief of Staff. Effective February 3, 2006.

DCGS00311 Confidential Assistant to the Director, Office of White House Liaison. Effective February 7, 2006.

DCGS00673 Chief of Staff to the Assistant Secretary for Market Access and Compliance. Effective February 7, 2006.

DCGS00318 Special Assistant to the Associate Under Secretary for Economic Affairs. Effective February 14, 2006.

DCGS60004 Deputy Director to the Director, Executive Secretariat. Effective February 14, 2006.

DCGS00320 Confidential Assistant to the Secretary. Effective February 15, 2006.

DCGS00373 Confidential Assistant to the Senior Advisor. Effective February 15, 2006.

DCGS00555 Public Affairs Specialist to the Director of Public Affairs. Effective February 15, 2006.

DCGS00582 Confidential Assistant to the Assistant Secretary for Export Enforcement. Effective February 15, 2006.

DCGS00546 Special Assistant to the Deputy Secretary. Effective February 16, 2006.

Section 213.3315 Department of Labor

DLGS60118 Staff Assistant to the Director of Operations. Effective February 24, 2006.

DLGS60235 Legislative Assistant to the Assistant Secretary for Congressional and Intergovernmental Affairs. Effective February 24, 2006.

DLGS60203 Special Assistant to the Assistant Secretary for Veterans Employment and Training. Effective February 27, 2006.

Section 213.3316 Department of Health and Human Services

DHGS60345 Director of Public Affairs to the Assistant Secretary for Children and Families. Effective February 2, 2006.

Section 213.3317 Department of Education

DBGS00508 Deputy Director, Office of English Language Acquisition to the Assistant Deputy Secretary and Director, Office of English Language Acquisition. Effective February 2, 2006.

DBGS00505 Deputy Secretary's Regional Representative, Region 6 to the Director, Regional Services. Effective February 3, 2006.

DBGS00507 Confidential Assistant to the General Counsel. Effective February 3, 2006.

Section 213.3318 Environmental Protection Agency

EPGS06001 Confidential Assistant to the Chief of Staff. Effective February 17, 2006.

EPGS06002 Program Manager (Operations) to the Deputy Chief of Staff (Operations). Effective February 17, 2006.

EPGS06003 Special Assistant to the Scheduler to the Deputy Chief of Staff (Operations). Effective February 17, 2006.

EPGS06004 Program Advisor (Media Relations) to the Deputy Chief of Staff (Operations). Effective February 17, 2006.

EPGS06005 Special Assistant to the Associate Administrator for Public Affairs. Effective February 22, 2006.

EPGS06006 Deputy Speech Writer to the Associate Administrator for Public Affairs. Effective February 23, 2006.

Section 213.3323 Federal Communications Commission

FCGS06040 Special Assistant to the Chairman. Effective February 15, 2006.

Section 213.3331 Department of Energy

DEGS00507 Intergovernmental and Tribal Affairs Liaison Officer to the Assistant Secretary for Congressional and Intergovernmental Affairs. Effective February 3, 2006.

DEGS00512 Deputy Press Secretary to the Director, Public Affairs. Effective February 28, 2006.

Section 213.3331 Federal Energy Regulatory Commission

DRGS60006 Public Information Specialist to the Director, Public Affairs. Effective February 17, 2006.

Section 213.3332 Small Business Administration

SBGS60003 National Director for Native American Affairs to the Associate Deputy Administrator for Entrepreneurial Development. Effective February 7, 2006.

SBGS00555 Legislative Assistant to the Associate Administrator for Congressional and Legislative Affairs. Effective February 23, 2006.

SBGS00594 Press Secretary to the Associate Administrator for Communications and Public Liaison. Effective February 23, 2006.

SBGS00595 Special Assistant to the Chief of Staff and Chief Operating Officer. Effective February 23, 2006.

SBGS00596 Special Assistant to the Associate Administrator for Field Operations. Effective February 23, 2006.

Section 213.3348 National Aeronautics and Space Administration

NNGS00165 Senior Press Specialist to the Assistant Administrator for Public Affairs. Effective February 16, 2006.

Section 213.3357 National Credit Union Administration

CUOT00025 Staff Assistant to the Member. Effective February 10, 2006.

Section 213.3360 Consumer Product Safety Commission

PSGS60050 Executive Assistant to the Chairman. Effective February 24, 2006.

Section 213.3384 Department of Housing and Urban Development

DUGS60174 Congressional Relations Officer to the Deputy Assistant Secretary for Congressional Relations. Effective February 3, 2006.

DUGS60357 Staff Assistant to the Chief of Staff. Effective February 10, 2006.

DUGS60240 Speechwriter to the Assistant Secretary for Public Affairs. Effective February 14, 2006.

DUGS60168 Staff Assistant to the Chief of Staff. Effective February 17, 2006.

DUGS60421 Director, Office of Executive Scheduling and Operations to the Assistant Secretary for Administration/Chief Human Capital Officer. Effective February 23, 2006.

DUGS60211 Staff Assistant to the Director of Executive Scheduling. Effective February 24, 2006.

Section 213.33 National Endowment for the Humanities

NHGS60076 Director, We the People Program to the Deputy Chairman. Effective February 1, 2006.

Authority: 5 U.S.C. 3301 and 3302; E.O. 10577, 3 CFR 1954-1958 Comp., p. 218 Office of Personnel Management.

Dan G. Blair,
Deputy Director.

[FR Doc. 06-2919 Filed 3-27-06; 8:45 am]

BILLING CODE 6325-39-P